DEPARTMENT OF ENERGY

Federal Energy Regulatory Commission

[Docket No. EL02-18-000]

NEO California Power LLC, Complainant, v. California Independent System Operator Corporation, Respondent; Notice of Complaint

November 14, 2001.

Take notice that on November 13, 2001, NEO California Power LLC (NEO California) hereby filed, pursuant to section 206 of the Federal Power Act (FPA) 16 U.S.C. 824e(1994), and rules 2006 and 212 of the Commission's rules of practice and procedure, 18 CFR 385.206 and 385.212, against the California System Independent Operator Corporation (Cal ISO). NEO California states that the Cal ISO has violated the Commission's orders, as well as Agreements (SRA) from NEO California's new generation facilities constructed to help relieve the California energy crisis; (2) providing NEO California with a creditworthy buyer for the capacity under the SRAs, or (3) assuring NEO California that it would be paid for capacity sales under the SRAs.

Any person desiring to be heard or to protest this filing should file a motion to intervene or protest with the Federal Energy Regulatory Commission, 888 First Street, NE., Washington, DC 20426, in accordance with rules 211 and 214 of the Commission's rules of practice and procedure (18 CFR 385.211 and 385.214). All such motions or protests must be filed on or before December 3, 2001. Protests will be considered by the Commission in determining the appropriate action to be taken, but will not serve to make protestants parties to the proceeding. Any person wishing to become a party must file a motion to intervene. Answers to the complaint shall also be due on or before December 3, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28946 Filed 11-19-01; 8:45 am]

BILLING CODE 6717-01-P